DEPARTMENT OF DEFENSE

Office of the Secretary

[Transmittal No. 18-24]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 18-24 with attached Policy Justification and Sensitivity of Technology.

Dated: July 26, 2018.
Shelly E. Finke,
Alternate OSD Federal Register Liaison Officer, Department of Defense.

BILLING CODE 5001-06-P

BILLING CODE 5001-06-C

Transmittal No. 18-24

Notice of Proposed Issuance of Letter of Offer Pursuant to Section 36(b)(1) of the Arms Export Control Act, as amended

(i) Prospective Purchaser: Kingdom of Denmark

(ii) Total Estimated Value:

Major Defense Equipment * | $75 million
Other | $15 million
TOTAL | $90 million

(iii) Description and Quantity or Quantities of Articles or Services under Consideration for Purchase:

Major Defense Equipment (MDE):

Twenty-eight (28) AIM-120 C-7 Advanced Medium Range Air-to-Air Missiles (AMRAAM)

One (1) AMRAAM Spare Guidance Section

Non-MDE: Also included are missile containers, control section spares, weapon systems support, test equipment, spare and repair parts, publications and technical documentation, personnel training, training equipment, U.S. Government and contractor engineering, logistics, and technical support services, and other related elements of logistics and program support.

(iv) Military Department: Air Force (DE-D-YAO)

(v) Prior Related Cases, if any: DE-D-YAS (AIM-120B)

(vi) Sales Commission, Fee, etc., Paid, Offered, or Agreed to be Paid: None

(vii) Sensitivity of Technology Contained in the Defense Article or Defense Services

Proposed to be Sold: See Attached Annex

(viii) Date Report Delivered to Congress: July 10, 2018

* As defined in Section 47(6) of the Arms Export Control Act.

POLICY JUSTIFICATION

Denmark—AIM-120 C-7 Advanced Medium Range Air-to-Air Missile (AMRAAM)

The Government of Denmark has requested to buy twenty-eight (28) AIM-120 C-7 Advanced Medium Range Air-to-Air Missiles (AMRAAM) and one (1) AMRAAM spare guidance section. Also included are missile containers, control section spares, weapon systems support, test equipment, spare and repair parts, publications and technical documentation, personnel training, training equipment, U.S. Government and contractor engineering, logistics, and technical support services, and other related elements of logistics and program support. The total estimated program cost is $90 million.

This proposed sale will contribute to the foreign policy and national security of the United States by helping to improve the security of a NATO ally that is an important force for political stability and economic progress in the European region.

This proposed sale would support Denmark's F-16 and future F-35 fighter programs and enhance Denmark's ability to provide for its own territorial defense and support coalition operations. The proposed sale also enables interoperability and standardization between the armed forces of Denmark and the United States. Denmark already maintains the AIM-120B in its inventory and will have no difficulty absorbing this additional equipment and support into its armed forces.

The proposed sale of these systems and equipment will not alter the basic military balance in the region.

The principal contractor will be Raytheon Cooperation in Tucson, Arizona. The purchaser has requested offsets. At this time, agreements are undetermined and will be defined in negotiations between the purchaser and contractor.

Implementation of this proposed sale will not require the assignment of any additional U.S. Government or contractor representatives to Denmark.

There will be no adverse impact on U.S. defense readiness as a result of this proposed sale.

Transmittal No. 18-24

Notice of Proposed Issuance of Letter of Offer Pursuant to Section 36(b)(1) of the Arms Export Control Act

Annex

Item No. vii

(vii) Sensitivity of Technology:

1. AIM-120C Advance Medium Range Air-to-Air (AMRAAM) is a radar-guided missile featuring digital technology and micro-miniature solid-state electronics. AMRAAM capabilities include look-down/shoot-down, multiple launches against multiple targets, resistance to electronic counter measures, and interception of high flying and low flying and maneuvering targets. The AMRAAM All Up Round is classified CONFIDENTIAL, major components and subsystems range from UNCLASSIFIED to CONFIDENTIAL, and technology data and other documentation are classified up to SECRET.

2. If a technologically advanced adversary were to obtain knowledge of the hardware and software elements, the information could be used to develop countermeasures or equivalent systems which might reduce system effectiveness or be used in the development of a system with similar or advanced capabilities.

3. A determination has been made that Denmark can provide substantially the same degree of protection for the sensitive technology being released as the U.S. Government. This sale is necessary in furtherance of the U.S. foreign policy and national security objectives outlined in the Policy Justification.

4. All defense articles and services listed in this transmittal have been authorized for release and export to Denmark.

[FR Doc. 2018-16373 Filed 7-30-18; 8:45 am]

BILLING CODE 5001-06-P